DEPARTMENT OF HEALTH AND HUMAN SERVICES

National Institutes of Health

National Cancer Institute; Notice of Meeting

Pursuant to section 10(a) of the Federal Advisory Committee Act, as amended (5 U.S.C. App.), notice is hereby given of a meeting of the National Cancer Institute Council of Research Advocates.

The meeting will be held as a teleconference call only and is open to the public to dial-in for participation. Individuals who plan to dial-in to the meeting and need special assistance or other reasonable accommodations in order to do so, should notify the Contact Person listed below in advance of the meeting.

Name of Committee: National Cancer Institute Council of Research Advocates.

Date: August 22, 2016.

Time: 11:00 a.m. to 12:00 p.m.

Agenda: Update on the Vice President's Cancer Moonshot Initiative—Progress and Next Steps.

Place: National Institutes of Health, 31 Center Drive, Building 31, Rooms 11A48, Bethesda, MD 20892 (Telephone Conference Call), 877-972-9420 Access Code: 1039054.

Contact Person: Amy Williams NCI Office of Advocacy Relations National Cancer Institute, NIH 31 Center Drive Building 31, Room 11A48 Bethesda, MD 20892, 301-594-3194 williaam@mail.nih.gov.

Any interested person may file written comments with the committee by forwarding the statement to the Contact Person listed on this notice. The statement should include the name, address, telephone number and when applicable, the business or professional affiliation of the interested person.

Information is also available on the Institute's/Center's home page: http://deainfo.nci.nih.gov/advisory/ctac/ctac.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: July 27, 2016.
Melanie J. Gray,
Program Analyst, Office of Federal Advisory Committee Policy.

[FR Doc. 2016-18162 Filed 8-1-16; 8:45 am]

BILLING CODE 4140-01-P